DEPARTMENT OF ENERGY

Federal Energy Regulatory Commission

[Project No. 184-065 California]

El Dorado Irrigation District; Notice of Public Meetings

January 25, 2002.

The Federal Energy Regulatory Commission (Commission) is reviewing the application for a new license for the El Dorado Project (FERC No. 184), which was filed on February 22, 2000. The El Dorado Project, licensed to the El Dorado Irrigation District (EID), is located on the South Fork American River, in El Dorado, Alpine, and Amador Counties, California. The project occupies lands of the Eldorado National Forest.

The EID, several state and federal agencies, and several non-governmental agencies have asked the Commission for time to work collaboratively with a facilitator to resolve certain issues relevant to this proceeding. These meetings are a part of that collaborative process. On Monday, February 11, there will be a meeting of the aquatics-hydrology workgroup. On Tuesday, February 12, the recreation-socioeconomics-visual resources workgroup will meet. The meetings will focus on further defining interests and the development of strategies to meet objectives. We invite the participation of all interested governmental agencies, non-governmental organizations, and the general public in this meeting.

Both meetings will be held from 9 am until 4 pm in the Sacramento Marriott, located at 11211 Point East Drive, Rancho Cordova, California.

For further information, please contact Elizabeth Molloy at (202) 208-0771 or John Mudre at (202) 219-1208.

C.B. Spencer,
Acting Secretary.

[FR Doc. 02-2291 Filed 1-30-02; 8:45 am]

BILLING CODE 6717-01-P